DEPARTMENT OF ENERGY

International Energy Agency Meetings

AGENCY: Department of Energy.

ACTION: Notice of meetings.

SUMMARY: The Industry Advisory Board (IAB) to the International Energy Agency (IEA) will meet on March 23, 2010, at the headquarters of the IEA in Paris, France, in connection with a joint meeting of the IEA's Standing Group on Emergency Questions (SEQ) and the IEA's Standing Group on the Oil Market on March 23, and on March 24 in connection with a meeting of the SEQ on March 24.

DATES: March 23-24, 2010.

ADDRESSES: 9, rue de la Fédération, Paris, France.

FOR FURTHER INFORMATION CONTACT: Diana D. Clark, Assistant General for International and National Security Programs, Department of Energy, 1000 Independence Avenue, SW., Washington, DC 20585, 202-586-3417.

SUPPLEMENTARY INFORMATION: In accordance with section 252(c)(1)(A)(i) of the Energy Policy and Conservation Act (42 U.S.C. 6272(c)(1)(A)(i)) (EPCA), the following notice of meeting is provided:

Meetings of the Industry Advisory Board (IAB) to the International Energy Agency (IEA) will be held at the headquarters of the IEA, 9, rue de la Fédération, Paris, France, on March 23, 2010, beginning at 9:30 a.m. and on March 24 beginning at 9:30 a.m. The purpose of this notice is to permit attendance by representatives of U.S. company members of the IAB at a joint meeting of the IEA's Standing Group on Emergency Questions (SEQ) and the IEA's Standing Group on the Oil Market (SOM) on March 23 beginning at 9:30 a.m. at the same location, and at a meeting of the SEQ on March 24 beginning at 9:30 a.m. The IAB will also hold a preparatory meeting among company representatives at the same location at 8:30 a.m. on March 24. The agenda for this preparatory meeting is to review the agenda for the SEQ meeting commencing at 9:30 a.m. on March 24 and to discuss the possibility of disbanding the Industry Supply Advisory Group (ISAG).

The agenda of the joint SEQ/SOM meeting on March 23 is under the control of the SEQ and the SOM. It is expected that the SEQ and the SOM will adopt the following agenda:

1. Adoption of the Agenda.

2. The 2011-2012 Program of Work for the SOM and SEQ.

3. The Current Oil Market Situation.

4. Preparation for the International Energy Forum Meeting (Cancun, Mexico).

5. Update on the Gas Market.

6. Reports on Workshops Held Abroad.

—Workshop on Price Formation (Tokyo, February 2010)

—Global Oil and Gas Market Dynamics and Outlook (Beijing, October 2009)

—Global Oil Markets and Security (New Delhi, October 2009)

7. Report on Study on Fuel Switching.

8. Report on Study on Natural Gas Liquids.

9. Cooperation with Non-Member Countries During Supply Disruptions.

10. Other Business.

The agenda of the SEQ meeting on March 24, 2009, is under the control of the SEQ. It is expected that the SEQ will adopt the following agenda:

1. Installation of New Chair.

2. Adoption of the Agenda.

3. Approval of the Summary Record of the 128th Meeting.

—Guidelines for Demand Restraint Measures

—Review of IEA Procedures for Collective Actions

4. Status of Compliance with IEP Stockholding Commitments.

5. Emergency Response Review Program.

—Schedule of Emergency Response Reviews

—Emergency Response Review of the Czech Republic

—Emergency Response Review of the United Kingdom

6. Emergency Response Exercise 5 (ERE 5).

—Report on the ERE 5 Exercise in Capitals

7. Emergency Policy for Natural Gas.

—Possible Questionnaire on Gas Security

—The Use of Oil Stocks During Gas Disruptions

8. Emergency Response Review Program.

—Emergency Response Review of New Zealand

—Questionnaire Response of Greece

9. Emergency Response Measures.

—Draft Outline for Workshop on Industry Stock Release

10. Policy and Other Developments in Member Countries.

—Belgium

—France

—Japan

—United States

11. Activities with International Organizations and Non-Member Countries.

—Proposal for an Emergency Response Assessment (ERA) in Thailand

—Proposal for an ERA in Chile

—Update on APEC Energy Working Group

—Report on China

—Report on Indonesia

12. Report from the Industry Advisory Board.

—The Future of the Industry Supply Advisory Group (ISAG)

13. Documents for Information.

—Emergency Reserve Situation of IEA Member Countries on January 1, 2010

—Base Period Final Consumption: 1Q 2009-4Q 2009

—Monthly Oil Statistics: December 2009

—Updated Emergency Contacts List

—Panel of Arbitrators: Nomination from Poland

13. Other Business.

—Tentative Schedule of Meetings for 2010:

—June 29—Joint SEQ/SOM Meeting

—June 30 (morning)—Workshop on the Effective Release of Industry Stocks and Tickets

—June 30 (afternoon)—July 1: 130th Meeting of the SEQ

—November 16 (morning)—SOM Meeting

—November 16 (afternoon)—Training Session ERE 5

—November 17-18—ERE 5

—November 19—131st Meeting of the SEQ

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, March 11, 2010.
Diana D. Clark,
Assistant General Counsel for International and National Security Programs.

[FR Doc. 2010-5568 Filed 3-15-10; 8:45 am]

BILLING CODE 6450-01-P